DEPARTMENT OF HOMELAND SECURITY

Coast Guard

[USCG-2010-0853]

Information Collection Request to Office of Management and Budget; OMB Control Numbers: 1625-0062, 1625-0078, and 1625-0082

AGENCY: Coast Guard, DHS.

ACTION: Sixty-day notice requesting comments.

SUMMARY: In compliance with the Paperwork Reduction Act of 1995, the U.S. Coast Guard intends to submit Information Collection Requests (ICRs) and Analyses to the Office of Management and Budget (OMB) requesting a revision of its approval for the following collections of information: (1) 1625-0062, Approval of Alterations to Marine Portable Tanks; Approval of Non-Specification Portable Tanks; (2) 1625-0078, Licensing and Manning Requirements for Officers of Towing Vessels; and (3) 1625-0082, Navigation Safety Information and Emergency Instructions for Certain Towing Vessels. Before submitting these ICRs to OMB, the Coast Guard is inviting comments as described below.

DATES: Comments must reach the Coast Guard on or before November 26, 2010.

ADDRESSES: To avoid duplicate submissions to the docket [USCG-2010-0853], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from: Commandant (CG-611), Attn Paperwork Reduction Act Manager, U.S. Coast Guard, 2100 2ND St., SW. Stop 7101, Washington DC 20593-7101.

FOR FURTHER INFORMATION CONTACT: Contact Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether these ICRs should be granted based on the collections being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0853], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8-1/2 by 11 inches, suitable for copying and electronic filing. If you submit them by mail and would like to know that they reached the Facility, please enclose a stamped, self-addressed postcard or envelope. We will consider all comments and material received during the comment period and will address them accordingly.

Viewing comments and documents: Go to http://www.regulations.gov to view documents mentioned in this Notice as being available in the docket. Enter the docket number for this Notice [USCG-2010-0853] in the Search box, and click “Go >>.” You may also visit the DMF in Room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Information Collection Request

1. Title: Approval of Alterations to Marine Portable Tanks; Approval of Non-Specification Portable Tanks.

OMB Control Number: 1625-0062.

Summary: The information will be used to evaluate the safety of proposed alterations to marine portable tanks and non-specification portable tank designs used to transfer hazardous materials during offshore operations.

Need: Approval by the Coast Guard of alterations to marine portable tanks under 46 CFR part 64 ensures the altered tank retains the level of safety to which it was originally designed. In addition, rules allowing for the approval of non-specification portable tanks ensure innovation and new designs are not impeded by the regulation.

Forms: None.

Respondents: Owners of marine portable tanks and owners/designers of non-specification portable tanks.

Frequency: On occasion.

Burden Estimate: The estimated burden remains unchanged at 18 hours a year.

2. Title: Licensing and Manning Requirements for Officers of Towing Vessels.

OMB Control Number: 1625-0078.

Summary: Licensing and manning requirements ensure towing vessels operating on the navigable waters of the U.S. are under the control of licensed officers who meet certain qualification and training standards.

Need: Title 46 CFR part 10 prescribes regulations for the licensing of maritime personnel. This collection is necessary to ensure a mariner's training information is available to assist in determining the mariner's overall qualifications to hold certain licenses.

Forms: None.

Respondents: Owners and operators of towing vessels.

Frequency: On occasion.

Burden Estimate: The estimated burden has decreased from 19,746 hours to 16,770 hours a year.

3. Title: Navigation Safety Information and Emergency Instructions for Certain Towing Vessels.

OMB Control Number: 1625-0082.

Summary: Navigation safety regulations in 33 CFR part 164 help assure the mariner piloting a towing vessel has adequate equipment, charts, maps, and other publications. For inspected towing vessels, under 46 CFR 199.80, a muster list and emergency instructions provide effective plans/references for crew to follow in an emergency situation.

Need: The purpose of the regulations is to improve the safety of towing vessels and the crews that operate them.

Forms: None.

Respondents: Owners, operators, and masters of vessels.

Frequency: On occasion.

Burden Estimate: The estimated burden has increased from 362,907 hours to 410,465 hours a year.

Dated: September 15, 2010.
R.E. Day,
Rear Admiral, U.S. Coast Guard, Assistant Commandant for Command, Control, Communications, Computers and Information Technology.

[FR Doc. 2010-24201 Filed 9-24-10; 8:45 am]

BILLING CODE 9110-04-P